INTERNATIONAL TRADE COMMISSION

[Investigation No. 337-TA-1086]

Certain Mounting Apparatuses for Holding Portable Electronic Devices and Components Thereof; Institution of Investigation

AGENCY: U.S. International Trade Commission.

ACTION: Notice.

SUMMARY: Notice is hereby given that a complaint was filed with the U.S. International Trade Commission on October 24, 2017, under section 337 of the Tariff Act of 1930, as amended, on behalf of National Products Inc. of Seattle, Washington. A supplement to the complaint was filed on November 3, 2017. The complaint alleges violations of section 337 based upon the importation into the United States, the sale for importation, and the sale within the United States after importation of certain mounting apparatuses for holding portable electronic devices and components thereof by reason of infringement of U.S. Patent No. 8,544,161 (“the '161 Patent”); U.S. Patent No. D703,657 (“the '657 Patent”); U.S. Patent No. 8,186,636 (“the '636 Patent”); U.S. Patent No. D571,278 (“the '278 Patent”); U.S. Patent No. D574,204 (“the '204 Patent”); U.S. Patent No. 9,568,148 (“the '148 Patent”); and U.S. Trademark Registration No. 4,254,086 (“the '086 Trademark”). The complaint further alleges that an industry in the United States exists as required by the applicable Federal Statute.

The complainants request that the Commission institute an investigation and, after the investigation, issue a limited exclusion order and a cease and desist order.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, Office of Unfair Import Investigations, U.S. International Trade Commission, telephone (202) 205-2560.

SUPPLEMENTARY INFORMATION: Authority: The authority for institution of this investigation is contained in section 337 of the Tariff Act of 1930, as amended, 19 U.S.C. 1337 and in section 210.10 of the Commission's Rules of Practice and Procedure, 19 CFR 210.10 (2017).

Scope of Investigation: Having considered the complaint, the U.S. International Trade Commission, on November 21, 2017, ordered that—

(1) Pursuant to subsection (b) of section 337 of the Tariff Act of 1930, as amended, an investigation be instituted to determine:

(a) Whether there is a violation of subsection (a)(1)(B) of section 337 in the importation into the United States, the sale for importation, or the sale within the United States after importation of certain mounting apparatuses for holding portable electronic devices and components thereof by reason of infringement of one or more of claims 1-18 of the '161 patent; claim 1 of the '657 patent; claims 1-20 of the '636 patent; claim 1 of the '278 patent; claims 1 of the '204 patent; claims 1-13 of the '148 patent; and whether an industry in the United States exists as required by subsection (a)(2) of section 337;

(c) whether there is a violation of subsection (a)(1)(C) of section 337 in the importation into the United States, the sale for importation, or the sale within the United States after importation of certain mounting apparatuses for holding portable electronic devices and components thereof by reason of infringement of the '086 trademark; and whether an industry in the United States exists as required by subsection (a)(2) of section 337;

(2) For the purpose of the investigation so instituted, the following are hereby named as parties upon which this notice of investigation shall be served:

(a) The complainants are: National Products Inc., 8410 Dallas Ave S., Seattle, WA 98108.

(b) The respondent is the following entity alleged to be in violation of section 337, and is the party upon which the complaint is to be served:

Shenzhen Chengshuo Technology Co., Ltd., d/b/a WUPP, Building A, No. 18, Zhongbuqiao, Qixianqiao Village, Dalu Ind. Zone, Liangzhu Town, Yuhang Dist., Hangzhou, Zhejiang, China

Foshan City Qishi Sporting Goods, Technology Co., Ltd. d/b/a N-Star, Guangfo Road No. 71, Nanhai District, Foshan City, Guangdong, China 258200

Chengdu MWUPP Technology Co., Ltd, Building 1, Third Floor, Door 15, 10 Jinkang Road; Wuhou District, Chengdu City, Sichuan Province, China 610045

Shenzhen Yingxue Technology Co., Ltd., d/b/a Yingxue Tech, Room 14H, Haojingmingyuan Phase II, No. 28 Zhengqing Road, Buji Town, Longgang District, Shenzhen, China 518112

Shenzhen Shunsihang Technology Co., Ltd., d/b/a BlueFire, Room 16D, Yonghuafu, Building No. 1, Longcheng Huafu, Longcheng St., Longgang, District, Shenzhen, China 518172

Guangzhou Kean Products Co., Ltd., Room 216-218, No. 275, D District, Zeng Cha Road, Baiyun District, Guangzhou, Guangdong, China

Prolech Electronics Limited, Building 2, Floor 2, Ba Fang Yuan Industrial, Gui Shan Road Number 9, Xixiang Town, Baoan District, Shenzhen, China

Gangzhou Kaicheng Metal Produce Co., Ltd. d/b/a ZJMOTO No. 17, Xijiu Street, Jinshazhou, Baiyun Dist., Guangzhou, Guangdong, China 510165

Shenzhen Smilin Electronic Technology, Co., Ltd., 40 Building, Niulanqian Village, Minzhi Street, Baoan District, Shenzhen, Guangdong, China 518131

Shenzhen New Dream Intelligent Plastic, Co., Ltd., B511, Lanshang Innovation Park, No. 7, Xinfeng Road, Longcheng Street, Longgang District, Shenzhen, Guangdong, China 518172

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: November 21, 2017.
Katherine M. Hiner,
Supervisory Attorney.

[FR Doc. 2017-25623 Filed 11-27-17; 8:45 am]

BILLING CODE 7020-02-P